DEPARTMENT OF TRANSPORTATION

Surface Transportation Board

[STB Finance Docket No. 34514]

Raritan Central Railway, L.L.C.—Operation Exemption—Heller Industrial Parks, Inc.

Raritan Central Railway, L.L.C. (Raritan), a Class III rail carrier, has filed a verified notice of exemption under 49 CFR 1150.41 to operate approximately 1.0 route mile and approximately 2.0 track miles of railroad trackage and right-of-way inside Heller Industrial Park, Edison Township, Middlesex County, NJ. Raritan indicates that it has executed a license agreement effective August 15, 2004, with Heller Industrial Parks, Inc., granting Raritan the exclusive right to use all railroad trackage on Heller's property for the purpose of providing railroad service to all railroad customers within Heller Industrial Park. Raritan advises that, although the subject trackage is currently served by Consolidated Rail Corporation (Conrail), Raritan will replace Conrail as the exclusive provider of rail service on the subject trackage. Raritan has further advised, in a separate pleading filed June 24, 2004, that it will not operate on track owned by Conrail.

Raritan certifies that its projected annual revenues as a result of this transaction will not exceed $5 million, and thus the transaction will not result in the creation of a Class I or Class II rail carrier.

The transaction is scheduled to be consummated on or about August 15, 2004.

If the notice contains false or misleading information, the exemption is void ab initio. Petitions to revoke the exemption under 49 U.S.C. 10502(d) may be filed at any time. The filing of a petition to revoke will not automatically stay the transaction.

An original and 10 copies of all pleadings, referring to STB Finance Docket No. 34514, must be filed with the Surface Transportation Board, 1925 K Street NW., Washington, DC 20423-0001. In addition, one copy of each pleading must be served on John D. Heffner, Esq., John D. Heffner, PLLC, 1920 N Street, NW., Suite 800, Washington, DC 20036.

Board decisions and notices are available on our Web site at “www.stb.dot.gov.”

Decided: July 2, 2004.
By the Board, David M. Konschnik, Director, Office of Proceedings.
Vernon A. Williams,
Secretary.

[FR Doc. 04-15609 Filed 7-9-04; 8:45 am]

BILLING CODE 4915-01-P